ENVIRONMENTAL PROTECTION AGENCY

40 CFR PART 52

[EPA-R03-OAR-2013-0132; FRL-9809-6]

Approval and Promulgation of Air Quality Implementation Plans; District of Columbia, Maryland and Virginia; Attainment Demonstration for the 1997 8-Hour Ozone National Ambient Air Quality Standard for the Washington, DC-MD-VA Moderate Nonattainment Area; Reopening of Comment Period

AGENCY: Environmental Protection Agency (EPA).

ACTION: Proposed rule; reopening of the comment period.

SUMMARY: EPA is reopening the comment period for a notice published on March 20, 2013. In the March 20, 2013 notice of proposed rulemaking, EPA proposed to approve the attainment demonstration portion of the attainment plan for the Washington DC-MD-VA (Washington area) ozone nonattainment area submitted by the District of Columbia, the State of Maryland and the Commonwealth of Virginia as revisions to each of their State Implementation Plans (SIPs). At the request of the Maryland Department of the Environment (MDE), EPA is reopening the comment period. Comments submitted between the close of the original comment period and the re-opening of this comment period will be accepted and considered.

DATES: The comment period for the proposed rule published on March 20, 2013 (78 FR 17161) is reopened through June 10, 2013. All comments received on or before June 10, 2013 will be entered into the public record and considered by EPA before taking final action on the proposed rule.

ADDRESSES: Submit your comments, identified by Docket ID Number EPA-R03-OAR-2013-0132 by one of the following methods:

A. www.regulations.gov. Follow the on-line instructions for submitting comments.

B. Email: fernandez.cristina@epa.gov.

C. Mail: EPA-R03-OAR-2013-0132, Cristina Fernandez, Associate Director, Office of Air Planning Program, Mailcode 3AP30, U.S. Environmental Protection Agency, Region III, 1650 Arch Street, Philadelphia, Pennsylvania 19103.

D. Hand Delivery: At the previously-listed EPA Region III address. Such deliveries are only accepted during the Docket's normal hours of operation, and special arrangements should be made for deliveries of boxed information.

Instructions: Direct your comments to Docket ID No. EPA-R03-OAR-2013-0132. EPA's policy is that all comments received will be included in the public docket without change, and may be made available online at www.regulations.gov, including any personal information provided, unless the comment includes information claimed to be Confidential Business Information (CBI) or other information whose disclosure is restricted by statute. Do not submit information that you consider to be CBI or otherwise protected through www.regulations.gov or email. The www.regulations.gov Web site is an “anonymous access” system, which means EPA will not know your identity or contact information unless you provide it in the body of your comment. If you send an email comment directly to EPA without going through www.regulations.gov, your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the electronic docket are listed in the www.regulations.gov index. Although listed in the index, some information is not publicly available, i.e., CBI or other information whose disclosure is restricted by statute. Certain other material, such as copyrighted material, is not placed on the Internet and will be publicly available only in hard copy form. Publicly available docket materials are available either electronically in www.regulations.gov or in hard copy during normal business hours at the Air Protection Division, U.S. Environmental Protection Agency, Region III, 1650 Arch Street, Philadelphia, Pennsylvania 19103. Copies of the States' submittals are available at the District of Columbia, Department of the Environment, Air Quality Division, 1200 1st Street, NE 5th floor, Washington, DC 20002; Maryland Department of the Environment, 1800 Washington Boulevard, Suite 705, Baltimore, Maryland 21230; and the Virginia Department of Environmental Quality, 629 East Main Street, Richmond, Virginia 23219.

FOR FURTHER INFORMATION CONTACT: Christopher Cripps, (215) 814-2179, or by email at cripps.christopher@epa.gov. Please note that while questions on this reopening of the comment period for the proposed approval of the attainment demonstration portion of attainment plans for the Washington area may be posed via telephone and email, formal comments must be submitted in writing, as indicated in the ADDRESSES section of this document.

Dated: April 24, 2013.
W.C. Early,
Acting Regional Administrator, Region III.

[FR Doc. 2013-11058 Filed 5-8-13; 8:45 am]

BILLING CODE 6560-50-P